DEPARTMENT OF HOMELAND SECURITY

Coast Guard

[Docket No. USCG-2021-0408]

Guidance: Change 3 to NVIC 24-14 Guidelines on Qualification for STCW Endorsements as Electro-Technical Rating on Vessels Powered by Main Propulsion Machinery of 750 KW/1,000 HP or More

AGENCY: Coast Guard, DHS.

ACTION: Notice of availability.

SUMMARY: The Coast Guard announces the availability of Change 3 to Navigation and Vessel Inspection Circular (NVIC) 24-14: Guidelines on Qualification for STCW Endorsements as Electro-Technical Rating (ETR) on Vessels Powered by Main Propulsion Machinery of 750 kW/1,000 HP or More. This NVIC provides guidance to mariners concerning STCW endorsements for ETR, including training and qualifications. This change notice revises NVIC 24-14 to indicate that the Coast Guard will allow mariners to qualify for an STCW endorsement as ETR without completing approved training for high voltage systems or computer systems and maintenance.

DATES: The policies announced in Change-3 to NVIC 24-14 are effective as of August 26, 2021.

ADDRESSES: To view documents mentioned in this notice, search the docket number USCG-2021-0408 using the Federal eRulemaking Portal at https://www.regulations.gov.

FOR FURTHER INFORMATION CONTACT: For information about this document, contact James Cavo, Mariner Credentialing Program Policy Division (CG-MMC-2), Coast Guard; telephone 202-372-1205; email MMCPolicy@uscg.mil.

SUPPLEMENTARY INFORMATION: The Coast Guard will use NVIC 24-14 and 46 CFR part 12 to establish whether mariners are qualified to hold STCW rating endorsements as Electro-Technical Rating (ETR) on Vessels Powered by Main Propulsion Machinery of 750 kW/1,000 HP or More. As specified in 46 CFR 12.611, mariners seeking this endorsement must complete an approved training for High Voltage Systems and Computer Systems and Maintenance. The standards of competence requirements for STCW endorsements as ETR are found in Table A-III/7 of the STCW Code. That STCW table does not include standards of competence relevant to high voltage systems or computer systems and maintenance.

The Coast Guard will not enforce the requirement for approved courses in Computer Systems and Maintenance or High Voltage Systems for an ETR endorsement because it places a higher training burden on U.S. mariners compared to what is required of the international maritime workforce for a similar endorsement. The time and cost for a mariner to complete these courses outweighs any benefit the course would provide because the mariner does not use this knowledge and proficiency in their ETR capacity. Therefore, we have determined this training requirement goes beyond the skillset necessary and the level of responsibility associated with an ETR endorsement, and thus is unnecessary and overly burdensome. For these reasons, this Commandant Change Notice will allow mariners to qualify for an STCW endorsement as ETR without completing approved training for computer systems and maintenance and for high voltage power systems.

The approved High Voltage Power Systems training courses will still be required and utilized for the Electro-Technical Officer endorsement.

This notice is issued under authority of 5 U.S.C. 552(a).

Dated: September 2, 2021.
J.W. Mauger,
Rear Admiral, U.S. Coast Guard, Assistant Commandant for Prevention Policy.

[FR Doc. 2021-19411 Filed 9-8-21; 8:45 am]

BILLING CODE 9110-04-P